DEPARTMENT OF COMMERCE

Bureau of Industry and Security

15 CFR Part 744

[Docket No. 220929-0203]

RIN 0694-AI99

Additions of Entities to the Entity List

AGENCY: Bureau of Industry and Security, Department of Commerce.

ACTION: Final rule.

SUMMARY: In response to the Russian Federation's (Russia's) further invasion of Ukraine on February 24, 2022, the illegal and unjustifiable basis of which has been furthered by its illegal purported annexation of regions of Ukraine, the Department of Commerce is amending the Export Administration Regulations (EAR) by adding 57 entities under 57 entries to the Entity List. These entities have been determined by the U.S. Government to be acting contrary to the national security or foreign policy interests of the United States. Of these 57 entities, 56 will be listed on the Entity List under the destination of Russia and one will be listed under the destination of the Crimea Region of Ukraine.

DATES: This rule is effective on September 30, 2022.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States. The EAR impose additional license requirements on, and limits the availability of, most license exceptions for exports, reexports, and transfers (in-country) when listed entities are parties to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add the Russian Institute of Radio Navigation and Time to the Entity List for acquiring and attempting to acquire U.S.-origin items in support of Russia's military. This activity is contrary to U.S. national security and foreign policy interests under § 744.11(b) and this entity qualifies as a military end user under § 744.21(g) of the EAR. This entity will receive a footnote 3 designation because the ERC has determined that it is a Russian `military end user' in accordance with § 744.21. A footnote 3 designation subjects this entity to the Russia/Belarus-Military End User Foreign Direct Product (FDP) Rule, detailed in § 734.9(g). This entity is added with a license requirement for all items subject to the EAR, which may be overcome by License Exception GOV under § 740.11(b)(2) and (e). This entity is added with a license review policy of denial for all items subject to the EAR other than food and medicine designated as EAR99 and for items for U.S. Government-supported use in the International Space Station (ISS). License applications for these transactions will be reviewed on a case-by-case basis.

The ERC determined to add the Federal Technical Regulation and Metrology Agency; the Federal State Budgetary Institution of Science P.I. K.A. Valiev RAS of the Ministry of Science and Higher Education of Russia; the Federal State Unitary Enterprise All-Russian Research Institute of Physical, Technical and Radio Engineering Measurements; the Institute of Physics Named After P.N. Lebedev of the Russian Academy of Sciences; the National Research Center Kurchatov Institute; the Institute of Solid-State Physics of the Russian Academy of Sciences; and the Rzhanov Institute of Semiconductor Physics, Siberian Branch of Russian Academy of Sciences to the Entity List for acquiring and attempting to acquire U.S.-origin items in support of the Russian military, as well as their involvement in the development of quantum computing technologies, which would further enable Russia's malicious cyber activities, or are otherwise important to Russia in developing advanced production and development capabilities. These activities are contrary to U.S. national security and foreign policy interests under § 744.11(b). These seven entities are being added with a license requirement for all items subject to the EAR and a license review policy of denial.

The ERC determined to add 49 Russian institutes or companies, as set forth in the list below, to the Entity List for acquiring and attempting to acquire U.S.-origin items in support of Russia's military. This activity is contrary to national security and foreign policy interests under § 744.11(b). These entities will receive footnote 3 designations because the ERC has determined that they are Russian `military end users' in accordance with § 744.21. A footnote 3 designation subjects these entities to the Russia/Belarus-Military End User Foreign Direct Product (FDP) Rule, detailed in § 734.9(g). These entities are added with a license requirement for all items subject to the EAR. They are added with a license review policy of denial for all items subject to the EAR other than food and medicine designated as EAR99, license applications for which will be reviewed on a case-by-case basis. The entities are: A. Lyulki Experimental-Design Bureau; A. Lyulki Science and Technology Center; AO Aviaagregat; Central Aerohydrodynamic Institute; Closed Joint Stock Company Turborus; Federal Autonomous Institution Central Institute of Engine-Building N.A. P.I. Baranov; Federal State Budgetary Institution National Research Center Institute n.a. NE Zhukovsky; Federal State Unitary Enterprise State Scientific-Research Institute for Aviation Systems; Joint Stock Company 121 Aviation Repair Plant; Joint Stock Company 123 Aviation Repair Plant; Joint Stock Company 218 Aviation Repair Plant; Joint Stock Company 360 Aviation Repair Plant; Joint Stock Company 514 Aviation Repair Plant; Joint Stock Company 766 UPTK; Joint Stock Company Aramil Aviation Repair Plant; Joint Stock Company Aviaremont; Joint Stock Company Flight Research Institute N.A. M.M. Gromov; Joint Stock Company Metallist Samara; Joint Stock Company Moscow Machinebuilding Enterprise named after V.V. Chernyshev; Joint Stock Company NII Steel; Joint Stock Company Remdizel; Joint Stock Company Special Industrial and Technical Base Zvezdochka; Joint Stock Company STAR; Joint Stock Company Votkinsk Machine Building Plant; Joint Stock Company Yaroslavl Radio Factory; Joint Stock Company Zlatoustovsky Machine Building Plant; Limited Liability Company Center for Specialized Production OSK Propulsion; Lytkarino Machine-Building Plant; Moscow Aviation Institute; Moscow Institute of Thermal Technology; Omsk Motor-Manufacturing Design Bureau; Open Joint Stock Company 170 Flight Support Equipment Repair Plant; Open Joint Stock Company 20 Aviation Repair Plant; Open Joint Stock Company 275 Aviation Repair Plant; Open Joint Stock Company 308 Aviation Repair Plant; Open Joint Stock Company 32 Repair Plant of Flight Support Equipment; Open Joint Stock Company 322 Aviation Repair Plant; Open Joint Stock Company 325 Aviation Repair Plant; Open Joint Stock Company 680 Aircraft Repair Plant; Open Joint Stock Company 720 Special Flight Support Equipment Repair Plant; Open Joint Stock Company Volgograd Radio-Technical Equipment Plant; Public Joint Stock Company Agregat; Salute Gas Turbine Research and Production Center; Scientific-Production Association Vint of Zvezdochka Shipyard; Scientific Research Institute of Applied Acoustics; Siberian Scientific-Research Institute of Aviation N.A. S.A. Chaplygin; Software Research Institute; Subsidiary Sevastopol Naval Plant of Zvezdochka Shipyard; and Tula Arms Plant. Subsidiary Sevastopol Naval Plant of Zvezdochka Shipyard will be listed under the destination of the Crimea Region of Ukraine; all others will be listed under the destination of Russia.

For the reasons described above, this final rule adds the following 57 entities under 57 entries to the Entity List and includes, where appropriate, aliases:

Crimea Region of Ukraine

• Subsidiary Sevastopol Naval Plant of Zvezdochka Shipyard.

Russia

• A. Lyulki Experimental-Design Bureau,

• A. Lyulki Science and Technology Center,

• AO Aviaagregat,

• Central Aerohydrodynamic Institute,

• Closed Joint Stock Company Turborus,

• Federal Autonomous Institution Central Institute of Engine-Building N.A. P.I. Baranov,

• Federal State Budgetary Institution of Science P.I. K.A. Valiev RAS of the Ministry of Science and Higher Education of Russia,

• Federal State Budgetary Institution National Research Center Institute n.a. NE Zhukovsky,

• Federal State Unitary Enterprise All-Russian Research Institute of Physical, Technical and Radio Engineering Measurements,

• Federal State Unitary Enterprise State Scientific-Research Institute for Aviation Systems,

• Federal Technical Regulation and Metrology Agency,

• Institute of Physics Named After P.N. Lebedev of the Russian Academy of Sciences,

• Institute of Solid-State Physics of the Russian Academy of Sciences,

• Joint Stock Company 121 Aviation Repair Plant,

• Joint Stock Company 123 Aviation Repair Plant,

• Joint Stock Company 218 Aviation Repair Plant,

• Joint Stock Company 360 Aviation Repair Plant,

• Joint Stock Company 514 Aviation Repair Plant,

• Joint Stock Company 766 UPTK,

• Joint Stock Company Aramil Aviation Repair Plant,

• Joint Stock Company Aviaremont,

• Joint Stock Company Flight Research Institute N.A. M.M. Gromov,

• Joint Stock Company Metallist Samara,

• Joint Stock Company Moscow Machinebuilding Enterprise named after V.V. Chernyshev,

• Joint Stock Company NII Steel,

• Joint Stock Company Remdizel,

• Joint Stock Company Special Industrial and Technical Base Zvezdochka,

• Joint Stock Company STAR,

• Joint Stock Company Votkinsk Machine Building Plant,

• Joint Stock Company Yaroslavl Radio Factory,

• Joint Stock Company Zlatoustovsky Machine Building Plant,

• Limited Liability Company Center for Specialized Production OSK Propulsion,

• Lytkarino Machine-Building Plant,

• Moscow Aviation Institute,

• Moscow Institute of Thermal Technology,

• National Research Center Kurchatov Institute,

• Omsk Motor-Manufacturing Design Bureau,

• Open Joint Stock Company 20 Aviation Repair Plant,

• Open Joint Stock Company 32 Repair Plant of Flight Support Equipment,

• Open Joint Stock Company 170 Flight Support Equipment Repair Plant,

• Open Joint Stock Company 275 Aviation Repair Plant,

• Open Joint Stock Company 308 Aviation Repair Plant,

• Open Joint Stock Company 322 Aviation Repair Plant,

• Open Joint Stock Company 325 Aviation Repair Plant,

• Open Joint Stock Company 680 Aircraft Repair Plant,

• Open Joint Stock Company 720 Special Flight Support Equipment Repair Plant,

• Open Joint Stock Company Volgograd Radio-Technical Equipment Plant,

• Public Joint Stock Company Agregat,

• Russian Institute of Radio Navigation and Time,

• Rzhanov Institute of Semiconductor Physics, Siberian Branch of Russian Academy of Sciences,

• Salute Gas Turbine Research and Production Center,

• Scientific-Production Association Vint of Zvezdochka Shipyard,

• Scientific Research Institute of Applied Acoustics,

• Siberian Scientific-Research Institute of Aviation N.A. S.A. Chaplygin,

• Software Research Institute, and

• Tula Arms Plant.

Savings Clause

For the changes being made in this final rule, shipments of items removed from eligibility for a License Exception or export, reexport, or transfer (in-country) without a license (NLR) as a result of this regulatory action that were en route aboard a carrier to a port of export, reexport, or transfer (in-country), on September 30, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Supplement No. 4 to part 744 is amended:

a. Under CRIMEA REGION OF UKRAINE, by adding, in alphabetical order, an entry for “Subsidiary Sevastopol Naval Plant of Zvezdochka Shipyard”; and

b. Under RUSSIA, by adding, in alphabetical order, entries for “A. Lyulki Experimental-Design Bureau;” “A. Lyulki Science and Technology Center;” “AO Aviaagregat;” “Central Aerohydrodynamic Institute;” “Closed Joint Stock Company Turborus;” “Federal Autonomous Institution Central Institute of Engine-Building N.A. P.I. Baranov;” “Federal State Budgetary Institution of Science P.I. K.A. Valiev RAS of the Ministry of Science and Higher Education of Russia;” “Federal State Budgetary Institution National Research Center Institute n.a. NE Zhukovsky;” “Federal State Unitary Enterprise All-Russian Research Institute of Physical, Technical and Radio Engineering Measurements;” “Federal State Unitary Enterprise State Scientific-Research Institute for Aviation Systems;” “Federal Technical Regulation and Metrology Agency;” “Institute of Physics Named After P.N. Lebedev of the Russian Academy of Sciences;” “Institute of Solid-State Physics of the Russian Academy of Sciences;” “Joint Stock Company 121 Aviation Repair Plant;” “Joint Stock Company 123 Aviation Repair Plant;” “Joint Stock Company 218 Aviation Repair Plant;” “Joint Stock Company 360 Aviation Repair Plant;” “Joint Stock Company 514 Aviation Repair Plant;” “Joint Stock Company 766 UPTK.;” “Joint Stock Company Aramil Aviation Repair Plant;” “Joint Stock Company Aviaremont;” “Joint Stock Company Flight Research Institute N.A. M.M. Gromov;” “Joint Stock Company Metallist Samara;” “Joint Stock Company Moscow Machinebuilding Enterprise named after V.V. Chernyshev;” “Joint Stock Company NII Steel;” “Joint Stock Company Remdizel;” “Joint Stock Company Special Industrial and Technical Base Zvezdochka.;” “Joint Stock Company STAR;” “Joint Stock Company Votkinsk Machine Building Plant;” “Joint Stock Company Yaroslavl Radio Factory;” “Joint Stock Company Zlatoustovsky Machine Building Plant;” “Limited Liability Company Center for Specialized Production OSK Propulsion;” “Lytkarino Machine-Building Plant;” “Moscow Aviation Institute;” “Moscow Institute of Thermal Technology;” “National Research Center Kurchatov Institute;” “Omsk Motor-Manufacturing Design Bureau;” “Open Joint Stock Company 20 Aviation Repair Plant;” “Open Joint Stock Company 32 Repair Plant of Flight Support Equipment;” “Open Joint Stock Company 170 Flight Support Equipment Repair Plant;” “Open Joint Stock Company 275 Aviation Repair Plant;” “Open Joint Stock Company 308 Aviation Repair Plant;” “Open Joint Stock Company 322 Aviation Repair Plant;” “Open Joint Stock Company 325 Aviation Repair Plant;” “Open Joint Stock Company 680 Aircraft Repair Plant;” “Open Joint Stock Company 720 Special Flight Support Equipment Repair Plant;” “Open Joint Stock Company Volgograd Radio-Technical Equipment Plant;” “Public Joint Stock Company Agregat;” “Russian Institute of Radio Navigation and Time;” “Rzhanov Institute of Semiconductor Physics, Siberian Branch of Russian Academy of Sciences;” “Salute Gas Turbine Research and Production Center;” “Scientific-Production Association Vint of Zvezdochka Shipyard;” “Scientific Research Institute of Applied Acoustics;” “Siberian Scientific-Research Institute of Aviation N.A. S.A. Chaplygin;” “Software Research Institute;” and “Tula Arms Plant”.

The additions read as follows:

Supplement No. 4 to Part 744—Entity List

* * * * *

Country | Entity | License requirement | License review policy | Federal Register citation
* * * * * * *
CRIMEA REGION OF UKRAINE | * * * * * *
| Subsidiary Sevastopol Naval Plant of Zvezdochka Shipyard, a.k.a., the following two aliases: —Sevastopol Naval Plant; and —Sevastopol Naval Plant N.A. Sergo Ordzhonikidze. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 13 Geroyev Sevastopolya Street, Sevastopol, Crimea, 299001, Ukraine.
| * * * * * *
* * * * * * *
RUSSIA | * * * * * *
| A. Lyulki Experimental-Design Bureau, a.k.a., the following three aliases: —A. Lyulki OKB; —FL A. Lyulki OKB; and —A. Lyulki Experimental-Design Bureau Branch of UEC-UMPO. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 8 Kasatkin Street, Building 8, Moscow 129301, Russia.
| A. Lyulki Science and Technology Center, a.k.a., the following two aliases: —FL NTTs A. Lyulki; and —Branch of UEC-Saturn A. Lyulki Science and Technology Center. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 13 Kasatkin Street, Moscow, 129301, Russia.
| * * * * * *
| AO Aviaagregat, 1 Shukovskogo Street, Zhukovskiy, Moscow Oblast, 140196, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| * * * * * *
| Central Aerohydrodynamic Institute, a.k.a., the following one alias: —TsAGI. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 1 Zhukovskogo Street, Zhukovsky, Moscow Oblast, 140180, Russia.
| * * * * * *
| Closed Joint Stock Company Turborus, a.k.a., the following one alias: —Turborus ZAO. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND DATE OF PUBLICATION IN THE Federal Register].
| 179 Prospect Lenina, Rybinsk, Rybinsk Region, Yaroslavl Oblast 152907, Russia.
| * * * * * *
| Federal Autonomous Institution Central Institute of Engine-Building N.A. P.I. Baranov, a.k.a., the following two aliases: —Central Institute of Aviation Motors; and, —CAIM. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 2 Aviation Motoes Street, Moscow, 111116, Russia.
| * * * * * *
| Federal State Budgetary Institution of Science P.I. K.A. Valiev RAS of the Ministry of Science and Higher Education of Russia, a.k.a., the following three aliases: —FTIAN IM K.A. Valiev RAS; —FTI RAS; and —FTIAN. | For all items subject to the EAR. (See § 744.11 of the EAR.) | Policy of denial | 87 FR [INSERT FR PAGE NUMBER AND October 4, 2022.
| 34 Nakhimovski Prospekt, Moscow, 117218, Russia; and 36 Nakhimovsky Prospekt, Moscow, 117218, Russia.
| Federal State Budgetary Institution National Research Center Institute n.a. N.E. Zhukovsky, a.k.a., the following one alias: —Zhukovsky National Research Institute. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 7 Viktorenko Street, Moscow, 125319, Russia, and, 1 Zhukovskogo Street, Zhukovsky, Moscow Oblast, 140180, Russia.
| Federal State Unitary Enterprise All-Russian Research Institute of Physical, Technical and Radio Engineering Measurements, a.k.a., the following one alias: VNIIFTRI. | For all items subject to the EAR. (See § 744.11 of the EAR.) | Policy of denial | 87 FR [INSERT FR PAGE NUMBER AND October 4, 2022.
| Mendeleevo Village, Mendeleevo, Moscow Oblast, 141570, Russia.
| * * * * * *
| Federal State Unitary Enterprise State Scientific-Research Institute for Aviation Systems, a.k.a., the following one alias: —GosNIIAS. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 7 Viktorenko Street, Moscow, 125167, Russia.
| Federal Technical Regulation and Metrology Agency, a.k.a., the following alias: —Rosstandart. | For all items subject to the EAR. (See § 744.11 of the EAR.) | Policy of denial | 87 FR [INSERT FR PAGE NUMBER AND October 4, 2022.
| 10 Naberezhnaya Presnenskaya, Street 2, Floor 7, Moscow, 123112, Russia; and 10 Presnenskaya Embankment, Building 2 (IQ Block), Moscow, 123112, Russia.
| * * * * * *
| Institute of Physics Named After P.N. Lebedev of the Russian Academy of Sciences, a.k.a., the following four aliases: —Lebedev Physical Institute; —LPI RAS; —Lebedev Physical Institute; and —FIAN. | For all items subject to the EAR. (See § 744.11 of the EAR.) | Policy of denial | 87 FR [INSERT FR PAGE NUMBER AND October 4, 2022.
| 53 Leninsky Prospekt, Moscow, 119991, Russia.
| Institute of Solid-State Physics of the Russian Academy of Sciences, a.k.a., the following three aliases: —ISSP; —Institute of Solid-State Physics of the Academy of Sciences SSSR; and —Federal State Budgetary Institution of Science Institute of Solid-State Physics N.A. Yu. A. Osipyan of the Russian Academy of Sciences. | For all items subject to the EAR. (See § 744.11 of the EAR.) | Policy of denial | 87 FR [INSERT FR PAGE NUMBER AND October 4, 2022.
| 2 Akademika Osipyana Street, Chernogolovka, Moscow Region, 142432, Russia.
| * * * * * *
| Joint Stock Company 121 Aviation Repair Plant, a.k.a., the following one alias: —121 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 10 Pochtovaya Street, Room 203, Stary Gorodok, Odintsovo District, Moscow Oblast, 143079, Russia.
| Joint Stock Company 123 Aviation Repair Plant, a.k.a., the following one alias: —123 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| Mkr Gorodok, Staraya Russa, Starorussky District, Novgorod Oblast, 175201, Russia.
| Joint Stock Company 218 Aviation Repair Plant, a.k.a., the following one alias: —218 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 7a Grigorina Street, Gatchina, Gatchinsky Region, Leningrad Oblast 188307, Russia.
| Joint Stock Company 360 Aviation Repair Plant, a.k.a., the following one alias: —360 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 13V Zabaikalsk Street, Ryazan, Ryazan Oblast, 390015, Russia.
Joint Stock Company 514 Aviation Repair Plant, a.k.a., the following one alias: —514 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 121 Chelyuskintsev Street, Rzhev, Tver Oblast, 172383, Russia.
| Joint Stock Company 766 UPTK. 1 Institutskaya Street, Nakhabino, Krasnogorsk District, Moscow Region, 143432, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| * * * * * *
| Joint Stock Company Aramil Aviation Repair Plant, a.k.a., the following one alias: —AARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| Garnizon Street, Aramil, Sysertsky Region, Sverdlovsk Oblast. 624000, Russia.
| Joint Stock Company Aviaremont, a.k.a., the following one alias: —Aviaremont. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 17 Rossolimo Street, Building 2, Floor 4, Section V, Rooms 11-28, Moscow, 119021, Russia.
| * * * * * *
| Joint Stock Company Flight Research Institute N.A. M.M. Gromov, a.k.a., the following one alias: —FRI Gromov. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 2A Garnaeva Street, Zhukovsky, Moscow Oblast, 140180, Russia.
| * * * * * *
| Joint Stock Company Metallist Samara, a.k.a., the following one alias: —Metallist Samara. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 278 Promyshlennost Street, Samara, Samara Oblast, 443023, Russia.
| * * * * * *
| Joint Stock Company Moscow Machinebuilding Enterprise named after V.V. Chernyshev, a.k.a., the following one alias: —MMP V.V. Chernyshev. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 7 Vishnevaya Street, Moscow 125362, Russia.
| Joint Stock Company NII Steel, a.k.a., the following one alias: —Scientific Research Institute of Steel. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 81A Dubninskaya, Moscow, 127411, Russia.
| * * * * * *
| Joint Stock Company Remdizel, 40 Menzelinsky Tract, Naberezhnyye Cheliny, Republic of Tatarstan, 423800, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| * * * * * *
| Joint Stock Company Special Industrial and Technical Base Zvezdochka., a.k.a., the following one alias: —SPTB Zvezdochka. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 2/7 Komsomolskaya Street, Polyarnyy, Murmansk Oblast 184650, Russia.
| * * * * * *
| Joint Stock Company STAR, a.k.a., the following two aliases: —UEC-STAR; and —JSC STAR. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 140a Kuybyshev Street, Perm, Perm Krai, 614990, Russia, and, 93 Komsomol Prospect, GSP, Perm 614990, Russia.
| Joint Stock Company Votkinsk Machine Building Plant, 2 Kirov Street, Votkinsk, Udmert Republic, 427430, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| * * * * * *
| Joint Stock Company Yaroslavl Radio Factory, a.k.a., the following two aliases: — PJSC Yaroslavl Radioworks; and — YRZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 13 Margolina Street, Yaroslavl, 150010, Russia.
| Joint Stock Company Zlatoustovsky Machine Building Plant, a.k.a. the following one alias: —JSC Zlatmash. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 1 Parkovy Proezd, Zlatoust, Chelyabinsk Region, 456227, Russia.
| * * * * * *
| Limited Liability Company Center for Specialized Production OSK Propulsion, a.k.a., the following one alias: —OSK Propulsion. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 3 Galerny Proezd, Letter A, Pomesh. 75, Gavan Vn. Ter. G. Municipal Okrug, Saint Petersburg, 199226, Russia.
| * * * * * *
| Lytkarino Machine-Building Plant, a.k.a., the following one alias: —Branch of UEC-UMPO Lytkarino Machine-Building Plant. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| Turaevo Promzona, Building 9, Lytkarino, Moscow Oblast 140080, Russia.
| * * * * * *
| Moscow Aviation Institute, a.k.a., the following one alias: —MAI. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 4 Volokolamskoe Shosse, Moscow1 125993, Russia.
| * * * * * *
| Moscow Institute of Thermal Technology, a.k.a., the following one alias: —MITT. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 10/1 Berezovaya Alleya, Moscow, 127273, Russia.
| * * * * * *
| National Research Center Kurchatov Institute, a.k.a., the following two aliases: —The Kurchatov Institute; and —NITs Kurchatovsky Institute. | For all items subject to the EAR (See § 744.11 of the EAR.) | Policy of denial | 87 FR [INSERT FR PAGE NUMBER AND October 4, 2022.
| 1 Akademika Kurchatova Square, Moscow, 123182, Russia.
| * * * * * *
| Omsk Motor-Manufacturing Design Bureau, a.k.a., the following four aliases: —FL UEC-Saturn—OMKB; —Omsk Engine Design Bureau; —Branch of PAO UEC-Saturn Omsk Motor-Manufacturing Design Bureau; and —Omskoe mashinstroitel'noe KB. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 163 Lenin avenue, Yaroslavl region, Rybinsk, 152903, Russia and 3 Okruzhnaya Road, Omsk, Omsk Oblast, 644021, Russia.
| * * * * * *
| Open Joint Stock Company 20 Aviation Repair Plant, a.k.a., the following one alias: —20 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 11 Gatchinskoye Shosse, Pushkin, Saint Petersburg, 196603, Russia.
| Open Joint Stock Company 32 Repair Plant of Flight Support Equipment, a.k.a., the following one alias: —32 RZ SOP. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 10 Gospitalnaya Street, Spassk-Dalny, Primorsky Krai, 692243, Russia.
| Open Joint Stock Company 170 Flight Support Equipment Repair Plant, a.k.a., the following one alias: —170 RZ SOP. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 2 Meditsinskaya Street, Nizhny Novgorod, Nizhny Novgorod Oblast, 603104, Russia.
| Open Joint Stock Company 275 Aviation Repair Plant, a.k.a., the following one alias: —275 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 141 Imeno Dzherzhinskogo Street, Krasnodar, Krasnodar Krai, 350051, Russia.
| Open Joint Stock Company 308 Aviation Repair Plant, a.k.a., the following one alias: —308 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 118-V Lezhnevskaya Street, Ivanovo, Ivanov Oblast, 153035, Russia.
| Open Joint Stock Company 322 Aviation Repair Plant, a.k.a., the following one alias: —322 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 5 Zhukovskogo Street, Vozdvizhenka, Ussuriisky district, Primorsky Krai, 692557, Russia.
| Open Joint Stock Company 325 Aviation Repair Plant, a.k.a., the following one alias: —325 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 42 Tsiolkovskogo Street, Taganrog, Rostov Oblast, 347916, Russia.
| Open Joint Stock Company 680 Aircraft Repair Plant, a.k.a., the following one alias: —680 ARZ. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 2a Bazarnaya Street, Apartment 2, Belogorsk, Amur Oblast, 676853, Russia.
| Open Joint Stock Company 720 Special Flight Support Equipment Repair Plant, a.k.a., the following one alias: —720 RZ SOP. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 6 Krasnoarmeyskaya Street, Roslavl, Roslavlsky Region, Smolensk Oblast, 216507, Russia.
| * * * * * *
| Open Joint Stock Company Volgograd Radio-Technical Equipment Plant, a.k.a., the following one alias: —VZ RTO. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 60 Novodvinskaya Street, Volgograd, Volgograd Oblast, 400010, Russia.
| * * * * * *
| Public Joint Stock Company Agregat, a.k.a., the following one alias: —PJSC Agregat. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 1 Pushkin Street, Sim, Ashinsk Region, Chelyabinsk Oblast, 456020, Russia.
| * * * * * *
| Russian Institute of Radio Navigation and Time, a.k.a., the following one alias: —RIRT. | For all items subject to the EAR. (See §§ 734.9(g),³ 746.8(a)(3), and 744.21(b) of the EAR.) This license requirement may be overcome by License Exception GOV under § 740.11(b)(2) and (e). | Policy of denial for all items subject to the EAR apart from food and medicine designated as EAR99 and for items for U.S. Government supported use in the International Space Station (ISS), which will be reviewed on a case-by-case basis. See §§ 746.8(b) and 744.21(e) | 87 FR [INSERT FR PAGE NUMBER October 4, 2022.
| 120 Obukhovskoy Oborony, Prospekt (Avenue), Letter EC, St. Petersburg, 192012, Russia, and 19 Staraya Basmannaya Street, Building 12, Moscow, 105066, Russia.
| * * * * * *
| Rzhanov Institute of Semiconductor Physics, Siberian Branch of Russian Academy of Sciences, a.k.a., the following two aliases: —IPP SB RAS; and —Institute of Semiconductor Physics IM A.V. Rzhanov. | For all items subject to the EAR. (See § 744.11 of the EAR.) | Policy of denial | 87 FR [INSERT FR PAGE NUMBER AND October 4, 2022.
| 13 Prospekt Akademika Lavrentyeva, Novosibirsk, Novosibirk Oblast, 630090, Russia; and 13 Lavrentiev Avenue, Novosibirsk, 630090, Russia.
| * * * * * *
| Salute Gas Turbine Research and Production Center, 16 Prospect Budennogo, Moscow 105118, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| * * * * * *
| Scientific-Production Association Vint of Zvezdochka Shipyard, a.k.a., the following two aliases: —SPU Vint; and —NPO Vint. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 11 Novinsky Boulevard, Moscow, 121099, Russia.
| * * * * * *
| Scientific Research Institute of Applied Acoustics, a.k.a., the following one alias: —NIIPA. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 9/7A 9 May Street, Dubna, Moscow Oblast, 141981, Russia.
| * * * * * *
| Siberian Scientific-Research Institute of Aviation N.A. S.A. Chaplygin, a.k.a., the following one alias: —SibNIA. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 21 Polzunova Street, Novosibirsk, Novosibirsk Oblast, 630051, Russia.
| * * * * * *
| Software Research Institute, a.k.a., the following two aliases: —JSC Research Institute of Software Tools; and —JSC NII PS. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 22 Politekhnicheskaya Street, Lit N, St. Petersburg, 194021, Russia.
| * * * * * *
| Tula Arms Plant, a.k.a., the following four aliases: —Tula; —Tula Arsenal; —Imperial Tula Arms Plant; and —JSC Tulsky Oruzheiny Zavod. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER AND October 4, 2022.
| 1 Sovetskaya Street, Tula, 300041, Russia.
| * * * * * *
* * * * * * *

* * * * *

Matthew S. Borman,
Deputy Assistant Secretary for Export Administration.

[FR Doc. 2022-21520 Filed 9-30-22; 11:15 am]

BILLING CODE 3510-JT-P